DEPARTMENT OF COMMERCE

National Oceanic and Atmospheric Administration

50 CFR Part 600

[I.D. 032803G]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow one vessel to conduct fishing operations that are otherwise restricted by the regulations governing the fisheries of the Northeastern United States. The EFP would allow for exemptions from: The requirement to count days-at-sea (DAS) under this EFP against the NE multispecies DAS allocation for a total of 30 DAS; the fishing restrictions imposed by the Gulf of Maine (GOM) rolling closure areas; the minimum mesh size requirements specified for the GOM Regulated Mesh Area; and the minimum fish size requirements for the temporary retention of undersized fish for data collection purposes. The EFP would allow these exemptions for not more than 30 days of sea trials. All experimental work would be monitored by University of New Hampshire Cooperative Extension scientists/observers.

Regulations under the Magnuson-Stevens Fishery Conservation and Management Act require publication of this notification to provide interested parties the opportunity to comment on applications for proposed EFPs.

DATES: Comments must be received on or before April 23, 2003.

ADDRESSES: Written comments should be sent to Patricia A. Kurkul, Regional Administrator, NMFS, Northeast Regional Office, 1 Blackburn Drive, Gloucester, MA 01930. Mark the outside of the envelope “Comments on UNH Cooperative Extension Codend Mesh Size Selectivity Study.” Comments may also be sent via facsimile (fax) to (978) 281-9135.

FOR FURTHER INFORMATION CONTACT: Brian Hooker, Fishery Management Specialist, phone number 978-281-9220.

SUPPLEMENTARY INFORMATION: The UNH Cooperative Extension submitted an application for an EFP on January 21, 2003, with final revisions received on March 21, 2003. The experimental fishing application requests authorization to use one commercial fishing vessel to conduct sea trials of a hydrodynamic codend cover. The purpose of this experiment is to design a cover that would surround the codend without masking the net. Floats, weights, and kites would be placed on the outside of a trawl net to hold a supplemental small-mesh net away from the codend being examined. This would better enable researchers to evaluate a variety of codends by quantifying the amount of fish that escape, as well as those that are retained. The UNH researchers would use alternate tows both with, and without, the codend cover to evaluate differences in fish retention. Also, underwater video technology would be employed to observe the codend, the cover, and the fish escaping from the net. The codend cover would then be used to determine species and size selectivity of different trawl codend mesh sizes in the GOM multispecies fishery. Furthermore, the proposal seeks to determine fish retention in large mesh codends for GOM cod, haddock, whiting, and flounders (winter, witch, dabs). The experiment would compare the selectivity of 6.5-inch (16.51 cm) diamond mesh, 6.5-inch (16.51 cm) square mesh, 7-inch (17.78 cm) diamond mesh, and 7-inch (17.78 cm) square mesh codends against the regulation 6-inch (15.24 cm) diamond mesh. The biological impact of mesh size increases, including fishing mortality and discard rates of regulated multispecies, would be analyzed. The results of this mesh selectivity study would then be made available to the New England Fishery Management Council and NMFS.

The at-sea portion of the experiment would last no longer than 30 days between April and September, 2003. The activity would occur in Federal waters off the coast of New Hampshire excluding the Western GOM closure area. A total of 180, 30-minute tows at 2.8 knots would be conducted (six per day). UNH researchers would be required to be aboard the vessel at all times during the experimental work. All undersized fish would be returned to the sea as quickly as possible after measurement and examination. However, legal-sized fish that otherwise would have to be discarded would be allowed to be retained and sold within GOM possession limits. The participating vessel would be required to report all landings in its Vessel Trip Report. The catch levels are not expected to have a detrimental impact on the NE multispecies resources. Estimated total landings for the 30 days are: Cod-9,000 lb (4,082 kg); flounders (winter, witch, dabs)-9,000 lb (4,082 kg); and other groundfish (haddock, cusk, white hake, silver hake, ocean pout, wolffish, etc.)-6,000 lb (2,722 kg). This is approximately one-half the amount of fish that would be landed by the vessel when fishing under normal operating conditions on a NE multispecies DAS. Because the vessel will be fishing with a 3-inch (7.62 cm) codend cover it is estimated that total discards will exceed that of normal fishing operations. Total discard is estimated at 36,000 lb (16,329 kg) (50 percent herring, 20 percent mackerel, 20 percent hake, 5 percent cod and haddock, and 5 percent flounders (winter, witch, dabs)). Researchers will take precautions to avoid areas where there are concentrations of undersized fish.

Based on the results of this EFP, this action may lead to future rulemaking.

Authority: 16 U.S.C. 1801 et seq.

Dated: April 2, 2003.
Richard W. Surdi,
Acting Director, Office of Sustainable Fisheries, National Marine Fisheries Service.

[FR Doc. 03-8555 Filed 4-7-03; 8:45 am]

BILLING CODE 3510-22-S